DEPARTMENT OF HEALTH AND HUMAN SERVICES

National Institutes of Health

National Institute of Mental Health; Amended Notice of Meeting

Notice is hereby given of a change in the meeting of the National Institute of Mental Health Special Emphasis Panel, July 24, 2012, 11:00 a.m. to July 24, 2012, 4:00 p.m., National Institutes of Health, Neuroscience Center, 6001 Executive Boulevard, Rockville, MD, 20852 which was published in the Federal Register on June 13, 2012, 77 FR 35411.

The start time for this meeting has been changed to 1:00 p.m. The meeting is closed to the public.

Dated: June 21, 2012.
Jennifer S. Spaeth,
Director, Office of Federal Advisory Committee Policy.

[FR Doc. 2012-16065 Filed 6-28-12; 8:45 am]

BILLING CODE 4140-01-P